Title 3—

The President

Proclamation 8815 of May 7, 2012

National Charter Schools Week, 2012

By the President of the United States of America

A Proclamation

As a Nation, we share a responsibility to provide our children with a world-class education. By keeping our young people engaged in learning, we help them develop the skills and values that will not only guide them in life, but also prepare them to thrive in the global economy. For years, charter schools have brought new ideas to the work of educating our sons and daughters, and during National Charter Schools Week, we recognize their role in strengthening American education.

Whether created by parents and teachers or community and civic leaders, charter schools serve as incubators of innovation in neighborhoods across our country. These institutions give educators the freedom to cultivate new teaching models and develop creative methods to meet students’ needs. This unique flexibility is matched by strong accountability and high standards, so underperforming charter schools can be closed, while those that consistently help students succeed can serve as models of reform for other public schools.

In an economy where knowledge is our most valuable asset, a good education is no longer just a pathway to opportunity—it is an imperative. Our children only get one chance at an education, and charter schools demonstrate what is possible when States, communities, teachers, parents, and students work together. This week, let us recommit to ensuring all our children receive a high-quality education that expands their horizons, inspires them to develop their talents, and instills in them a sense of possibility for their futures.

NOW, THEREFORE, I, BARACK OBAMA, President of the United States of America, by virtue of the authority vested in me by the Constitution and the laws of the United States, do hereby proclaim May 6 through May 12, 2012, as National Charter Schools Week. I commend our Nation’s charter schools, teachers, and administrators, and I call on States and communities to support charter schools and the students they serve.

IN WITNESS WHEREOF, I have hereunto set my hand this seventh day of May, in the year of our Lord two thousand twelve, and of the Independence of the United States of America the two hundred and thirty-sixth.

[FR Doc. 2012-11544

Filed 5-9-12; 11:15 am]

Billing code 3295-F2-P